DEPARTMENT OF HEALTH AND HUMAN SERVICES

Health Resources and Services Administration

Agency Information Collection Activities: Proposed Collection: Comment Request

In compliance with the requirement for opportunity for public comment on proposed data collection projects (section 3506(c) (2) (A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, email paperwork@hrsa.gov or call the HRSA Reports Clearance Officer at (301) 443-1984.

Comments are invited on: (a) The proposed collection of information for the proper performance of the functions of the Agency; (b) the accuracy of the Agency's estimate of the burden of the proposed collection of information; (c) ways to enhance the quality, utility, and clarity of the information to be collected; and (d) ways to minimize the burden of the collection of information on respondents, including through the use of automated collection techniques or other forms of information technology.

Proposed Project: Health Center Controlled Networks (OMB No. 0915-xxxx)—[New]

One goal of the Health Resources and Services Administration (HRSA) is to ensure that all Health Center program grantees effectively implement health information technology (HIT) systems that enable all providers to become meaningful users of HIT, including Electronic Health Records (EHRs), and use those systems to increase access to care, improve quality of care, and reduce the costs of care delivered. The Health Center Controlled Network (HCCN) program serves as a major component of HRSA's HIT initiative to support these goals. The HCCN model focuses on the integration of certain functions and the sharing of skills, resources, and data to improve health center operations and care provision, and generating efficiencies and economies of scale. Through this grant, HCCNs will provide support for the adoption, implementation, and meaningful use of Health Information Technology (HIT) to improve the quality of care provided by existing Health Center Program grantees (i.e., Section 330 funded health centers) by engaging in the following program components:

• Adoption and Implementation: Assist participating health centers with effectively adopting and implementing certified EHR technology.

• Meaningful Use: Support participating health centers in meeting Meaningful Use requirements and accessing incentive payments under the Medicare and Medicaid Electronic Health Records Incentive Programs.

• Quality Improvement: Advance participating health centers' QI initiatives to improve clinical and operational quality, including Patient Centered Medical Home (PCMH) recognition.

HRSA plans to collect and evaluate network outcome measures. HRSA plans to require that HCCNs report such measures to HRSA in annual work plan updates as part of their annual, non-competing continuation progress reports through an electronic reporting system. The work plan updates will include information on grantees' plans and progress on the following:

• Adoption and Implementation of HIT (including EHR);

• Attainment of Meaningful Use Requirements; and

• Quality improvement measures (e.g., Healthy People 2020 clinical quality measures, PCMH recognition status, etc.).

The annual, non-competing continuation progress reports will describe each grantee's progress in achieving key activity goals such as quality improvement, data access and exchange, efficiency and effectiveness of network services, and the ability to track and monitor patient outcomes, as well as emerging needs, challenges and barriers encountered customer satisfaction, and plans to meet goals for the next year. Grantees will submit their work plan updates and annual, non-competing continuation progress report each fiscal year of the grant; the submission and subsequent HRSA approval of each report triggers the budget period renewal and release of each subsequent year of funding. The estimated total number of burden hours is 750.

The annual estimate of burden is as follows:

Instrument | Number of respondents | Responses per respondent | Total responses | Hours per response | Total burden hours
Work Plan Update | 30 | 1 | 30 | 5 | 150
Annual Progress Report/Interim Evaluation Progress Report | 30 | 1 | 30 | 20 | 600
Total | 60 |  |  |  | 750

Email comments to paperwork@hrsa.gov or mail the HRSA Reports Clearance Officer, Room 10-29, Parklawn Building, 5600 Fishers Lane, Rockville, MD 20857. Written comments should be received within 60 days of this notice.

Dated: June 28, 2012.
Reva Harris,
Acting Director, Division of Policy and Information Coordination.

[FR Doc. 2012-16332 Filed 7-3-12; 8:45 am]

BILLING CODE 4165-15-P